DEPARTMENT OF HEALTH AND HUMAN SERVICES

Indian Health Service

Indian Health Service Contract Health Service Report

AGENCY: Indian Health Service, HHS.

ACTION: Request for Public Comment: 60-day Proposed Collection: Indian Health Service Contract Health Service Report.

SUMMARY: The Indian Health Service (IHS) as part of its continuing effort to reduce paperwork and respondent burden, conducts a pre-clearance consultation program to provide the general public and Federal agencies with an opportunity to comment on proposed and/or continuing collections of information in accordance with the Paperwork Reduction Act of 1995 (44 U.S.C. 3506(c)(2)(A)). This program helps to ensure that requested data can be provided in the desired format, reporting burden (time and financial resources) is minimized, collection instruments are clearly understood, and the impact of collection requirements on respondents can be properly assessed. Currently, the IHS is providing a 60-day advance opportunity for public comment on a proposed extension of current information collection activity to be submitted to the Office of Management and Budget (OMB) for review.

Proposed Collection

Title: 09-17-0002, “IHS Contract Health Service Report”.

Type of Information Collection Request: Extension of a currently approved collection.

Form Number: IHS-843-1A, “Purchase-Delivery Order for Health Services.”

Need and Use of Information Collection: The Contract Health Service health care providers complete form IHS-843-1A to certify that they have performed the health services authorized by the IHS. The information is used to manage, administer, and plan for the provision of health services to eligible American Indian patients, process payments to providers, obtain program data, provide program statistics, and, serves as a legal document for health care services rendered.

Affected Public: Businesses or other for-profit, individuals, not-for-profit institutions and State, local or Tribal government.

Type of Respondents: Health care providers.

The table below provides the type(s) of data collection instruments, estimated number of respondents, number of responses per respondent, average burden hour per response, and total annual burden hour.

Data collection instrument | Estimated number of respondents | Responses per respondent | Annual number of responses | Average burden hr per response* | Total annual burden hours
IHS-843-1A | 7,399 | 42 | 310,758 | 3 minutes | 15,538
IDS** | 16,356 | 1 | 16,356 | 3 minutes | 818
* For ease of understanding, the burden is provided in actual minutes.
** Inpatient Discharge Summary (IDS)

There are no Capital Costs, Operating Costs and/or Maintenance Costs to report.

Request for Comments

Your written comments and/or suggestions are invited on one or more of the following points: (a) Whether the information collection activity is necessary to carry out an agency function; (b) whether the agency processes the information collected in a useful and timely fashion; (c) the accuracy of public burden estimate (the estimated amount of time needed for individual respondents to provide the requested (information); (d) whether the methodology and assumptions used to determine the estimate are logical; (e) ways to enhance the quality, utility, and clarity of the information being collected; and (f) ways to minimize the public burden through the use of automated, electronic, mechanical, or other technological collection techniques or other forms of information technology.

At the end of the comment period, the comments and recommendations received will be analyzed to determine the extent to which the collection should be modified prior to submission to OMB for review and approval. Comments submitted in response to this notice also will be summarized or included in the IHS's requests to OMB for renewal of this collection. All comments will become a matter of public record.

ADDRESSES: Mail, fax or E-mail all written comments to Mr. Lance Hodahkwen, Sr., M.P.H., IHS Reports Clearance Officer, 12300 Twinbrook Parkway, Suite 450, Rockville, MD 20852-1601, fax (301) 443-2316, or E-mail to: lhodahkw@.hqe.ihs.gov.]

FOR FURTHER INFORMATION CONTACT: Requests for additional information on the proposed project or for copies of the data collection instruments and instructions should be directed to Carol Littlefield, (301) 443-2694, or through the Internet (clittlef@hqe.ihs.gov). Indian Health Service, Reyes Building, Room 300, 901 Thompson Avenue, Rockville, MD 20852-1627.

COMMENT DUE DATE: Your comments are best assured of having their full effect if received on or before February 18, 2003.

Dated: December 12, 2002.
Charles W. Grim,
Assistant Surgeon General, Interim Director.

[FR Doc. 02-31912 Filed 12-18-02; 8:45 am]

BILLING CODE 4160-16-M